DEPARTMENT OF TRANSPORTATION

Federal Aviation Administration

14 CFR Part 97

[Docket No. 30665 Amdt. No. 3320]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 14, 2009. The compliance date for each SIAP, associated Takeoff Minimums, and ODP is specified in the amendatory provisions.

The incorporation by reference of certain publications listed in the regulations is approved by the Director of the Federal Register as of May 14, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 1, 2009.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 04 JUN 2009

Currituck, NC, Currituck County, GPS RWY 23, Orig-A, CANCELLED

Currituck, NC, Currituck County, RNAV (GPS) RWY 23, Orig

Le Roy, NY, Le Roy, Takeoff Minimums and Obstacle DP, Orig

Parkersburg, WV, Mid-Ohio Valley Rgnl, RNAV (GPS) RWY 3, Amdt 1

Parkersburg, WV, Mid-Ohio Valley Rgnl, RNAV (GPS) RWY 21, Amdt 1

Parkersburg, WV, Mid-Ohio Valley Rgnl, RNAV (GPS) Y RWY 3, Orig, CANCELLED

Parkersburg, WV, Mid-Ohio Valley Rgnl, RNAV (GPS) Y RWY 21, Orig, CANCELLED

Parkersburg, WV, Mid-Ohio Valley Rgnl, Takeoff Minimums and Obstacle DP, Amdt 2

Parkersburg, WV, Mid-Ohio Valley Rgnl, VOR RWY 21, Amdt 17

Effective 02 JUL 2009

Kake, AK, Kake, KAKE TWO Graphic Obstacle DP

Kenai, AK, Kenai Muni, VOR RWY 19R, Amdt 18B

Ketchikan, AK, Ketchikan Intl, ILS OR LOC/DME Z RWY 11, Orig

Perryville, AK, Perryville, RNAV (GPS) RWY 2, Orig-B

Unalakleet, AK, Unalakleet, GPS RWY 14, Orig, CANCELLED

Unalakleet, AK, Unalakleet, LOC/DME RWY 15, Amdt 3

Unalakleet, AK, Unalakleet, RNAV (GPS) RWY 33, Orig

Unalakleet, AK, Unalakleet, RNAV (GPS)-A, Orig

Unalakleet, AK, Unalakleet, Takeoff Minimums and Obstacle DP, Amdt 1

Unalakleet, AK, Unalakleet, VOR/DME-D, Amdt 4

Bullhead City, AZ, Laughlin/Bullhead Intl, RNAV (GPS) RWY 16, Amdt 1

Bullhead City, AZ, Laughlin/Bullhead Intl, RNAV (GPS) RWY 34, Amdt 2

Bullhead City, AZ, Laughlin/Bullhead Intl, Takeoff Minimums and Obstacle DP, Amdt 1

Bullhead City, AZ, Laughlin/Bullhead Intl, VOR/DME RWY 34, Amdt 1

Kingman, AZ, Kingman, GPS RWY 3, Orig, CANCELLED

Kingman, AZ, Kingman, GPS RWY 21, Orig, CANCELLED

Kingman, AZ, Kingman, RNAV (GPS) RWY 3, Orig

Kingman, AZ, Kingman, RNAV (GPS) Y RWY 21, Orig

Kingman, AZ, Kingman, RNAV (GPS) Z RWY 21, Orig

Kingman, AZ, Kingman, VOR/DME RWY 21, Amdt 7

Ramona, CA, Ramona, RNAV (GPS) RWY 9, Amdt 1

Ramona, CA, Ramona, RNAV (GPS)-B, Orig

Ramona, CA, Ramona, Takeoff Minimums and Obstacle DP, Amdt 3

Ramona, CA, Ramona, VOR/DME-A, Amdt 2

Pueblo, CO, Pueblo Memorial, GPS RWY 8L, Orig-A, CANCELLED

Pueblo, CO, Pueblo Memorial, RNAV (GPS) RWY 8L, Orig

Marathon, FL, The Florida Keys Marathon, RNAV (GPS) RWY 25, Amdt 1

Mount Sterling, IL, Mount Sterling Muni, RNAV (GPS) RWY 18, Orig

Mount Sterling, IL, Mount Sterling Muni, RNAV (GPS) RWY 36, Orig

Mount Sterling, IL, Mount Sterling Muni, Takeoff Minimums and Obstacle DP, Orig

Mount Sterling, IL, Mount Sterling Muni, VOR/DME-A, Amdt 1

Hyannis, MA, Barstable Muni-Boardman/Polando Field, ILS OR LOC RWY 15, Amdt 4

Hyannis, MA, Barstable Muni-Boardman/Polando Field, ILS OR LOC RWY 24, Amdt 18

Hyannis, MA, Barstable Muni-Boardman/Polando Field, RNAV (GPS) RWY 15, Orig

Hyannis, MA, Barstable Muni-Boardman/Polando Field, RNAV (GPS) RWY 24, Amdt 1

Cadillac, MI, Wexford County, GPS RWY 25, Orig, CANCELLED

Cadillac, MI, Wexford County, NDB RWY 7, Amdt 2

Cadillac, MI, Wexford County, NDB RWY 25, Amdt 2

Cadillac, MI, Wexford County, RNAV (GPS) RWY 7, Orig

Cadillac, MI, Wexford County, RNAV (GPS) RWY 25, Orig

Cadillac, MI, Wexford County, Takeoff Minimums and Obstacle DP, Amdt 7

Chillicothe, MO, Chillicothe Muni, NDB RWY 14, Amdt 8

Chillicothe, MO, Chillicothe Muni, RNAV (GPS) RWY 14, Orig

Chillicothe, MO, Chillicothe Muni, RNAV (GPS) RWY 32, Amdt 1

Chillicothe, MO, Chillicothe Muni, Takeoff Minimums and Obstacle DP, Orig

Pascagoula, MS, Trent Lott Intl, VOR-A, Amdt 1

Oak Island, NC, Brunswick County, Takeoff Minimums and Obstacle DP, Orig

Pinehurst/Southern Pines, NC, Moore County, Takeoff Minimums and Obstacle DP, Orig

Whiteville, NC, Columbus County Muni, NDB RWY 6, Amdt 5

Whiteville, NC, Columbus County Muni, RNAV (GPS) RWY 6, Orig

Whiteville, NC, Columbus County Muni, Takeoff Minimums and Obstacle DP, Orig

Ashtabula, OH, Ashtabula County, GPS RWY 8, Amdt 1A, CANCELLED

Ashtabula, OH, Ashtabula County, GPS RWY 26, Orig-A, CANCELLED

Ashtabula, OH, Ashtabula County, RNAV (GPS) RWY 8, Orig

Ashtabula, OH, Ashtabula County, RNAV (GPS) RWY 26, Orig

Ashtabula, OH, Ashtabula County, Takeoff Minimums and Obstacle DP, Orig

Bluffton, OH, Bluffton, RNAV (GPS) RWY 23, Orig

Bluffton, OH, Bluffton, Takeoff Minimums and Obstacle DP, Amdt 1

Bluffton, OH, Bluffton, VOR RWY 23, Amdt 7

Harrison, OH, Cincinnati West, RNAV (GPS) RWY 19, Orig

Harrison, OH, Cincinnati West, VOR RWY 19, Amdt 4

Enid, OK, Enid Woodring Rgnl, GPS RWY 17, Orig-A, CANCELLED

Enid, OK, Enid Woodring Rgnl, GPS RWY 35, Orig-B, CANCELLED

Enid, OK, Enid Woodring Rgnl, ILS OR LOC RWY 35, Amdt 5

Enid, OK, Enid Woodring Rgnl, RNAV (GPS) RWY 17, Orig

Enid, OK, Enid Woodring Rgnl, RNAV (GPS) RWY 35, Orig

Enid, OK, Enid Woodring Rgnl, Takeoff Minimums and Obstacle DP, Amdt 3

Enid, OK, Enid Woodring Rgnl, VOR RWY 17, Amdt 13

Enid, OK, Enid Woodring Rgnl, VOR RWY 35, Amdt 14

Redmond, OR, Roberts Field, Takeoff Minimums and Obstacle DP, Amdt 5

Bolivar, TN, William L. Whitehurst Field, NDB OR GPS RWY 1, Amdt 3, CANCELLED

Bolivar, TN, William L. Whitehurst Field, RNAV (GPS) RWY 1, Orig

Bolivar, TN, William L. Whitehurst Field, RNAV (GPS) RWY 19, Orig

Devine, TX, Devine Muni, NDB RWY 35, Amdt 3

Devine, TX, Devine Muni, RNAV (GPS) RWY 35, Orig

Falfurrias, TX, Brooks County, GPS RWY 35, Orig-A, CANCELLED

Falfurrias, TX, Brooks County, RNAV (GPS) RWY 35, Orig

San Antonio, TX, San Antonio Intl, ILS OR LOC RWY 3, Amdt 21

San Antonio, TX, San Antonio Intl, RNAV (GPS) RWY 3, Amdt 2

San Antonio, TX, San Antonio Intl, Takeoff Minimums and Obstacle DP, Orig

Brigham City, UT, Brigham City, NDB RWY 34, Amdt 6A, CANCELLED

Brigham City, UT, Brigham City, NDB-A, Orig

Richland, WA, Richland, LOC RWY 19, Amdt 7

Milwaukee, WI, General Mitchell Intl, Takeoff Minimums and Obstacle DP, Amdt 6

Casper, WY, Casper/Natrona County Intl, RNAV (GPS) RWY 21, Amdt 2

Casper, WY, Casper/Natrona County Intl, RNAV (GPS) RWY 26, Amdt 1

Effective 30 JUL 2009

Rochester, NY, Greater Rochester Intl, ILS OR LOC RWY 28, Amdt 30A

Rochester, NY, Greater Rochester Intl, RNAV (GPS) RWY 4, Amdt 1A

Rochester, NY, Greater Rochester Intl, RNAV (GPS) RWY 28, Amdt 1A

Rochester, NY, Greater Rochester Intl, VOR RWY 4, Amdt 11A

Rochester, NY, Greater Rochester Intl, VOR/DME RWY 4, Amdt 3A

[FR Doc. E9-10991 Filed 5-13-09; 8:45 am]

BILLING CODE 4910-13-P